DEPARTMENT OF COMMERCE

National Oceanic and Atmospheric Administration

50 CFR Part 660

[Docket No. 99122347-9347-01; I.D. 071900A]

Fisheries off West Coast States and in the Western Pacific; Pacific Coast Groundfish Fishery; Whiting Closure for the Catcher/Processor Sector

AGENCY: National Marine Fisheries Service (NMFS), National Oceanic and Atmospheric Administration (NOAA), Commerce.

ACTION: Fishing restrictions; request for comments.

SUMMARY: NMFS announces closure of the 2000 catcher/processor fishery for Pacific whiting (whiting) at 6 p.m. local time (l.t.) November 6, 2000, because the allocation for the catcher/processor sector will be reached by that time. This action is intended to keep the harvest of whiting within the 2000 allocation levels.

DATES: Effective from 6 p.m. l.t. November 6, 2000, until the start of the 2001 primary season for the catcher/processor sector, unless modified, superseded or rescinded. Comments will be accepted through November 24, 2000.

ADDRESSES: Submit comments to Donna Darm,, Acting Regional Administrator, Northwest Region (Regional Administrator), NMFS, 7600 Sand Point Way NE., Seattle, WA 98115-0070; or Rebecca Lent, Regional Administrator, Southwest Region, NMFS, 501 West Ocean Blvd., Suite 4200, Long Beach, CA 90802-4213.

FOR FURTHER INFORMATION CONTACT: Becky Renko at 206-526-6110.

SUPPLEMENTARY INFORMATION: This action is authorized by regulations implementing the Pacific Coast Groundfish Fishery Management Plan (FMP), which governs the groundfish fishery off Washington, Oregon, and California. On January 4, 2000 (65 FR 221), the levels of allowable biological catch (ABC), the optimum yield (OY) and the commercial OY (the OY minus the tribal allocation) for U.S. harvests of whiting were announced in the Federal Register. For 2000, the whiting ABC and OY are 232,000 mt (mt), the tribal whiting allocation is 32,500 mt, and the commercial OY is 199,500 mt.

Regulations at 50 CFR 660.323(a)(4) divide the commercial OY into separate allocations for the catcher/processor (34 percent), mothership (24 percent), and shore-based (42 percent) sectors of the whiting fishery. The 2000 commercial whiting allocations are 67,830 mt for the catcher/processor sector, 47,880 mt for the mothership sector, and 83,790 mt for the shoreside sector. The catcher/processor sector is composed of vessels that harvest and process whiting. The mothership sector is composed of motherships, and catcher vessels that harvest whiting for delivery to motherships. Motherships are vessels that process, but do not harvest, whiting. The shoreside sector is composed of vessels that harvest whiting for delivery to shoreside processors.

Regulations at 50 CFR 660.323(a)(3)(i) describe the primary season for catcher/processors as the period(s) when at-sea processing is allowed and the fishery is open for the catcher/processor sector. When each sector's allocation is reached, the primary season for that sector is ended.

NMFS Action

This action announces achievement of the allocation for the catcher/processor sector only. The best available information on November 1, 2000, indicated that the 67,830 mt catcher/processor allocation would be reached by 6 p.m. l.t. on November 6, 2000, at which time the primary season the catcher/processor sector ends.

For the reasons stated here and in accordance with the regulations at 50 CFR 660.323(a)(4)(iii)(A), NMFS herein announces:

Effective 6 p.m. l.t. on November 6, 2000, further taking and retaining, receiving or at-sea processing of whiting by a catcher/processor is prohibited. No additional unprocessed whiting may be brought on board after at-sea processing is prohibited, but a catcher/processor may continue to process whiting that was on board before at-sea processing was prohibited.

Classification

This action is authorized by the regulations implementing the FMP. The determination to take this action is based on the most recent data available. The aggregate data upon which the determination is based are available for public inspection at the Office of the Regional Administrator (see ADDRESSES) during business hours. This action is taken under the authority of 50 CFR 660.323(a)(4)(iii)(A) and is exempt from review under Executive Order 12866.

Authority: 16 U.S.C. 1801 et seq.

Dated: November 3, 2000.
Bruce C. Morehead,
Acting Director, Office of Sustainable Fisheries, National Marine Fisheries Service.

[FR Doc. 00-28812 Filed 11-6-00; 4:01 pm]

BILLING CODE 3510-22-S